DEPARTMENT OF AGRICULTURE

Forest Service

Final Record of Decisions for the Flathead National Forest Land Management Plan and Forest Plan Amendments for the Kootenai, Helena-Lewis and Clark, and Lolo National Forests

AGENCY: Forest Service, USDA.

ACTION: Notice of plan approval for the Flathead National Forest and plan amendments approval for the Kootenai, Helena-Lewis and Clark, and Lolo National Forests.

SUMMARY: Chip Weber, the Forest Supervisor for the Flathead National Forest, Northern Region, signed the record of decision (ROD) for the Flathead National Forest Land Management Plan (Forest Plan). The responsible officials, William Avey, Forest Supervisor for the Helena-Lewis and Clark National Forest; Chad Benson, Acting Forest Supervisor for the Kootenai National Forest; and Joe Alexander, Acting Forest Supervisor for the Lolo National Forest, signed the ROD for the Northern Continental Divide Ecosystem grizzly bear amendments (Amendments). The final RODs document the rationale for approving the Forest Plan and Amendments and are consistent with the reviewing officers' responses to objections and instructions.

DATES: The revised Forest Plan for the Flathead National Forest will become effective 30 days after the publication of this notice of approval in the Federal Register. The Amendments will become effective with this publication in the Federal Register. To view the final RODs, final environmental impact statement (FEIS), the Forest Plan, Amendments, and other related documents, please visit the Flathead National Forest Plan Revision website at: https://www.fs.usda.gov/goto/flathead/fpr or the Amendments website at: https://www.fs.usda.gov/goto/flathead/gbamend.

FOR FURTHER INFORMATION CONTACT: Information about the Forest Plan for the Flathead National Forest can be obtained from Anastasia Allen, weekdays, 8:30 a.m. to 3:00 p.m. Mountain Time at the Flathead National Forest Supervisor's Office (phone: 406-758-5320). Information about the Amendments can be obtained by contacting Timory Peel, weekdays, 8:30 to 5:00 p.m. Mountain Time at the Northern Region Office (phone: 406-329-3678). Written requests for information may be sent to Flathead National Forests, Attn: Plan Revision, 650 Wolfpack Way, Kalispell, Montana 59901.

Individuals who use telecommunication devices for the deaf (TDD) may call the Federal Information Relay Service (FIRS) at 1-800-877-8339 between 8 a.m. and 8 p.m., Eastern Time, Monday through Friday.

SUPPLEMENTARY INFORMATION: The Forest Plan describes the Flathead National Forest's distinctive roles and contributions within the broader landscape and details forest-wide management area and geographic area desired conditions, objectives, standards, and guidelines. The Forest Plan identifies suitable uses of National Forest System lands and provides estimates of the planned timber sale quantity. The Forest Plan identifies priority watersheds for restoration, and includes recommended wilderness areas and eligible wild and scenic rivers. This Forest Plan provides for efficient and effective management of the Flathead National Forest with desired conditions for coordination, partnerships, and shared stewardship with State, local, and Tribal governements, other federal agencies, adjacent landowners, and stakeholders.

The Forest Service is concurrently amending the Forest Plans of the Helena-Lewis and Clark, Kootenai, and Lolo National Forests to incorporate habitat management direction for the Northern Continental Divide Ecosystem grizzly bear population. The Flathead National Forest has incorporated the grizzly bear habitat management direction as part of its Forest Plan. Plan components (desired conditions, standards, and guidelines) that conserve grizzly bear habitat will be added to the Helena-Lewis and Clark, Kootenai, and Lolo Forest Plans. These plan components will guide future land management actions related to motorized access and secure core developed recreation sites, vegetation management, livestock grazing, and energy and mineral development. In general, habitat conditions in the primary conservation area will be maintained at levels that occurred during the time period when the grizzly bear population was known to be growing and increasing in distribution and will contribute to sustaining the recovery of the grizzly bear population.

The Flathead National Forest initiated plan revision in fall 2013 with field trips and stakeholder meetings. The Forest invited State, local and Tribal governments, and other federal agencies from around the region to participate in the process to revise the Forest Plan. An interagency working group met regularly throughout the plan revision effort. The Forest received almost 54,000 public comments on the Forest Plan and Amendments. Public involvement for the Amendments was initiated with the publication of a Notice of Intent in the Federal Register on March 6, 2015. Open houses were held in seven communities throughout the Northern Continental Divide Ecosystem during the scoping period to provide information about the proposed action and accept public comments.

The development of the Forest Plan and Amendments was shaped by the best available science, current laws, and public input. The 60-day timeframe for the opportunity to object ended on February 12, 2018. The Forest Service received 69 eligible objections. The reviewing officers issued their written responses to the objection issues on August 16, 2018. The Regional Forester, Reviewing Official, provided the Forest Supervisors with minor clarification instructions for most of the objection issues. The final RODs document the rationale for approving the Forest Plan and Amendments and are consistent with the reviewing officers' responses to objections and instructions.

Responsible Officials

The Responsible Officials for approving the Forest Plan and Amendments are as follows: Chip Weber, Forest Supervisor, Flathead National Forest; William Avey, Forest Supervisor, Helena-Lewis and Clark National Forest; Chad Benson, Acting Forest Supervisor, Kootenai National Forest; and Joe Alexander, Acting Forest Supervisor, Lolo National Forest.

Dated: December 17, 2018.
Allen Rowley,
Acting Associate Deputy Chief, National Forest System.

[FR Doc. 2018-27969 Filed 12-26-18; 8:45 am]

BILLING CODE 3411-15-P